DEPARTMENT OF COMMERCE

National Oceanic and Atmospheric Administration

50 CFR Part 622

[Docket No. 070518142-7238-02]

RIN 0648-AV45

Fisheries of the Caribbean, Gulf of Mexico, and South Atlantic; Gulf of Mexico Vermilion Snapper Fishery Management Measures; Correction

AGENCY: National Marine Fisheries Service (NMFS), National Oceanic and Atmospheric Administration (NOAA), Commerce.

ACTION: Final rule; correction.

SUMMARY: This document contains a correction to the final rule to implement a regulatory amendment to the Fishery Management Plan for the Reef Fish Resources of the Gulf of Mexico that was published in the Federal Register Thursday, January 3, 2008.

DATES: This correction is effective February 4, 2008.

FOR FURTHER INFORMATION CONTACT: Anik Clemens, 727-824-5305; fax: 727-824-5308; e-mail: Anik.Clemens@noaa.gov.

SUPPLEMENTARY INFORMATION:

Correction

The final rule that is the subject of this correction was published Thursday, January 3, 2008 (73 FR 406). The final rule. That final rule contains an amendatory instruction that is no longer needed. Amendatory instruction 9 removes the last sentence of paragraph (a)(2) in § 622.9, however, a final rule published on December 27, 2007 (72 FR 73270) revises this same paragraph. Therefore, on page 410, in the last column, amendatory instruction 9 is removed. All other information remains unchanged and will not be repeated in this correction.

Authority: 16 U.S.C. 1801 et seq.

Dated: January 11, 2008
Samuel D. Rauch III,
Deputy Assistant Administrator For Regulatory Programs, National Marine Fisheries Service.

[FR Doc. E8-791 Filed 1-16-08; 8:45 am]

BILLING CODE 3510-22-S